DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than May 22, 2014.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Children's Hospitals Graduate Medical Education Payment Program.

OMB No.: 0915-0247 Revision.

Abstract: The Children's Hospitals Graduate Medical Education (CHGME) Payment Program was enacted by Public Law 106-129 to provide federal support for graduate medical education (GME) to freestanding children's hospitals. This legislation attempts to provide support for GME comparable to the level of Medicare GME support received by other, non-children's hospitals. The legislation requires that eligible children's hospitals receive payments for both direct and indirect medical education expenses. Payments for direct expenses offset the expenses associated with operating approved graduate medical residency training programs, and payments for indirect expenses compensate hospitals for expenses associated with the treatment of more severely ill patients and the additional costs relating to teaching residents in such programs. The Centers for Medicare and Medicaid Services (CMS) issued a final rule in the Federal Register regarding Sections 5503, 5504, 5505, and 5506 of the Affordable Care Act of 2010, Public Law 111-148, on Wednesday, November 24, 2010. This final rule included policy changes on counting resident time in non-provider settings, counting resident time for didactic training and the redistribution of resident caps, which required modification of the data collection forms within the CHGME Payment Program application. The necessary modifications were made and received OMB clearance on June 30, 2012.

On September 30, 2013, CMS published revised cost report forms on their Web site; specifically form CMS 2552-10, Worksheet E-4, requiring additional modifications of the data collection forms in the CHGME Payment Program application. The CHGME Payment Program application forms have been adjusted to accommodate the most recent CMS policy changes. These changes require OMB approval.

Need and Proposed Use of the Information: Data are collected on the number of full-time equivalent (FTE) residents in applicant children's hospitals' training programs to determine the amount of direct and indirect medical education payments to be distributed to participating children's hospitals. Indirect medical education payments will also be derived from a formula that requires the reporting of discharges, beds, and case mix index information from participating children's hospitals.

Hospitals will also be requested to submit data on the number of FTE residents trained during the federal fiscal year to participate in the reconciliation payment process. Auditors will be requested to submit data on the number of full-time equivalent residents trained by the hospitals in an FTE resident assessment summary. An assessment of the hospital data ensures that appropriate CMS regulations and CHGME program guidelines are followed in determining which residents are eligible to be claimed for funding. The audit results impact final payments made by the CHGME Payment Program to all eligible hospitals.

Likely Respondents: Hospitals applying for and receiving CHGME funds and fiscal intermediaries auditing data submitted by the hospitals receiving CHGME funds.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden—Hours
Form name | Number of respondents | Number of responses per respondent | Total responses | Average burden per response (in hours) | Total burden hours
Application Cover Letter (Initial) | 60 | 1 | 60 | 0.33 | 19.8
Application Cover Letter (Reconciliation) | 60 | 1 | 60 | 0.33 | 19.8
HRSA 99 (Initial) | 60 | 1 | 60 | 0.33 | 19.8
HRSA 99 (Reconciliation) | 60 | 1 | 60 | 0.33 | 19.8
HRSA 99-1 (Initial) | 60 | 1 | 60 | 26.50 | 1,590.0
HRSA 99-1 (Reconciliation) | 60 | 1 | 60 | 6.50 | 390.0
HRSA 99-1 (Supplemental) (FTE Resident Assessment) | 30 | 1 | 30 | 3.67 | 110.1
HRSA 99-2 (Initial) | 60 | 1 | 60 | 11.33 | 679.8
HRSA 99-2 (Reconciliation) | 60 | 1 | 60 | 3.67 | 220.2
HRSA 99-4 (Reconciliation) | 60 | 1 | 60 | 12.50 | 750.0
HRSA 99-5 (Initial) | 60 | 1 | 60 | 0.33 | 19.8
HRSA 99-5 (Reconciliation) | 60 | 1 | 60 | 0.33 | 19.8
CFO Form Letter (Initial) | 60 | 1 | 60 | 0.33 | 19.8
CFO Form Letter (Reconciliation) | 60 | 1 | 60 | 0.33 | 19.8
FTE Resident Assessment Cover Letter (FTE Resident Assessment) | 30 | 1 | 30 | 0.33 | 9.9
Conversation Record (FTE Resident Assessment) | 30 | 1 | 30 | 3.67 | 110.1
Exhibit C (FTE Resident Assessment) | 30 | 1 | 30 | 3.67 | 110.1
Exhibit F (FTE Resident Assessment) | 30 | 1 | 30 | 3.67 | 110.1
Exhibit N (FTE Resident Assessment) | 30 | 1 | 30 | 3.67 | 110.1
Exhibit O(1) (FTE Resident Assessment) | 30 | 1 | 30 | 3.67 | 110.1
Exhibit O(2) (FTE Resident Assessment) | 30 | 1 | 30 | 26.50 | 795.0
Exhibit P (FTE Resident Assessment) | 30 | 1 | 30 | 3.67 | 110.1
Exhibit P(2) (FTE Resident Assessment) | 30 | 1 | 30 | 3.67 | 110.1
Exhibit S (FTE Resident Assessment) | 30 | 1 | 30 | 3.67 | 110.1
Exhibit T (FTE Resident Assessment) | 30 | 1 | 30 | 3.67 | 110.1
Exhibit T(1) (FTE Resident Assessment) | 30 | 1 | 30 | 3.67 | 110.1
Exhibit 1 (FTE Resident Assessment) | 30 | 1 | 30 | 0.33 | 9.9
Exhibit 2 (Initial, Reconciliation and FTE Resident Assessment) | 90 | 1 | 90 | 0.33 | 29.7
Exhibit 3 (Initial, Reconciliation and FTE Resident Assessment) | 90 | 1 | 90 | 0.33 | 29.7
Exhibit 4 (Initial, Reconciliation and FTE Resident Assessment) | 90 | 1 | 90 | 0.33 | 29.7
Total | 90 |  | 90 |  | 5,962.8

Dated: April 14, 2014.
Bahar Niakan,
Director, Division of Policy and Information Coordination.

[FR Doc. 2014-09186 Filed 4-21-14; 8:45 am]

BILLING CODE 4165-15-P